DEPARTMENT OF AGRICULTURE

Agricultural Marketing Service

[Document Number AMS-NOP-15-0085; NOP-15-16]

Notice of Meeting of the National Organic Standards Board

AGENCY: Agricultural Marketing Service, USDA.

ACTION: Notice of public meeting.

SUMMARY: In accordance with the Federal Advisory Committee Act, as amended, (5 U.S.C. App.), the Agricultural Marketing Service (AMS), Department of Agriculture, is announcing a meeting of the National Organic Standards Board (NOSB) to assist the Department in the development of standards for substances to be used in organic production and to advise the Secretary of Agriculture on any other aspects of the implementation of Organic Foods Production Act.

DATES: The Board will hold one webinar at which it will receive public comment: April 19 from 1:00 p.m. to approximately 4:00 p.m. Eastern Time. A face-to-face meeting will be held April 25-27, 2016, from approximately 8:30 a.m. to approximately 6:00 p.m. Eastern Time. Deadline to sign up for oral comment: Midnight Eastern Time, 30 days after publication of this notice. Deadline to submit written comments: Midnight Eastern Time, 30 days after publication of this notice.

ADDRESSES: The April 19, 2016 meeting will take place via webinar (access information will be available on the NOP Web site prior to the webinar). The April 25-27, 2016 meeting will take place at the Omni Shoreham Hotel, 2500 Calvert Street NW., Washington, DC 20008. http://www.omnihotels.com/hotels/washington-dc-shoreham. Detailed information pertaining to the meeting, including instructions about providing written and oral comments can be found at www.ams.usda.gov/NOSBMeetings.

FOR FURTHER INFORMATION CONTACT: Ms. Michelle Arsenault, Advisory Committee Specialist, National Organic Standards Board, USDA-AMS-NOP, 1400 Independence Ave. SW., Room 2642-S, Mail Stop 0268, Washington, DC 20250-0268; Phone: (202) 720-3252; Email: nosb@ams.usda.gov.

SUPPLEMENTARY INFORMATION: The NOSB makes recommendations to the Department of Agriculture about whether substances should be allowed or prohibited in organic production and/or handling, assists in the development of standards for organic production, and advises the Secretary on other aspects of the implementation of the Organic Foods Production Act (7 U.S.C. 6501-6522). The public meeting allows the NOSB to discuss and vote on proposed recommendations to the USDA, receive updates from the USDA National Organic Program (NOP) on issues pertaining to organic agriculture, and receive comments from the organic community. The meeting is open to the public. The meeting agenda, NOSB proposals and discussion documents, instructions for submitting and viewing public comments, and instructions for requesting time for oral comments will be available on the AMS Web site at www.ams.usda.gov/NOSBMeetings. Meeting topics will encompass a wide range of issues, including: Substances petitioned for addition to or deletion from the National List of Allowed and Prohibited Substances (National List), substances on the National List that require NOSB review before their 2018 sunset dates, and guidance on organic policies. At this meeting, the NOSB will begin its review of substances that have a sunset date in 2018.

Public Comments

Comments should address specific topics noted on the meeting agenda.

Written comments:

Written public comments will be accepted on or before midnight Eastern Time, 30 days after publication of this notice via www.regulations.gov. Comments submitted after this date will be provided to the NOSB, but Board members may not have adequate time to consider those comments prior to making a recommendation. The NOP strongly prefers comments to be submitted electronically; however, written comments may also be submitted (i.e. postmarked) by the deadline, via mail to Ms. Michelle Arsenault listed under FOR FURTHER INFORMATION.

Oral Comments:

The NOSB is providing the public multiple dates and opportunities to provide oral comments and will accommodate as many individuals and organizations as time permits. Persons or organizations wishing to make oral comments must pre-register by midnight Eastern Time, 30 days after publication of this notice, and can only register for one speaking slot: Either during the webinar, April 19, 2016, or at the face-to-face meeting April 25-27, 2016. Instructions for registering and participating in the webinar can be found at www.ams.usda.gov/NOSBMeetings or by contacting Michelle Arsenault listed under FOR FURTHER INFORMATION CONTACT.

Meeting Accommodations: The meeting hotel is ADA Compliant, and the USDA provides reasonable accommodation to individuals with disabilities where appropriate. If you need a reasonable accommodation to participate in this public meeting, please notify Michelle Arsenault listed under FOR FURTHER INFORMATION CONTACT. Determinations for reasonable accommodation will be made on a case-by-case basis.

Dated: March 10, 2016.
Elanor Starmer,
Acting Administrator, Agricultural Marketing Service.

[FR Doc. 2016-05835 Filed 3-15-16; 8:45 am]

BILLING CODE 3410-02-P